DEPARTMENT OF COMMERCE

National Oceanic and Atmospheric Administration

[RTID 0648-XC881]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day in-person meeting with an option for remote participation to consider actions affecting New England fisheries in the exclusive economic zone (EEZ). The Council continues to follow all public safety measures related to COVID-19 and intends to do so for this meeting.

DATES: The meeting will be held on Tuesday, April 18, Wednesday, April 19, and Thursday, April 20, 2023, beginning at 9 a.m., each day.

ADDRESSES:

Meeting address: The meeting will be held at the Hilton Mystic, 20 Coogan Boulevard, Mystic, CT 06355; telephone: (860) 572-0731; online at https://www.hilton.com/en/hotels/mysmhhf-hilton-mystic/. Join the webinar at https://register.gotowebinar.com/register/1463144741317930842.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, April 18, 2023

The Council will begin this meeting in Closed Session to discuss the search for a new executive director. At 9:30 a.m., the open session will begin with brief announcements, followed by reports on recent activities from the Council's Chair and Executive Director, the Greater Atlantic Regional Fisheries Office (GARFO) Regional Administrator, the Northeast Fisheries Science Center (NEFSC) Director, the NOAA Office of General Counsel, the Mid-Atlantic Fishery Management Council liaison, staff from the Atlantic States Marine Fisheries Commission (ASMFC), and representatives from the U.S. Coast Guard and NOAA's Office of Law Enforcement. Next, the Council will receive an update on work to review and improve the Monkfish Research Set-Aside Program. This report will be followed by an update on a joint New England and Mid-Atlantic Fishery Management Council action to reduce Atlantic sturgeon bycatch in monkfish and dogfish gillnet fisheries. The Council will initiate Monkfish Framework Adjustment 15 to incorporate proposed management measures. The Council then will receive an update on the formation of a new working group charged with addressing issues related to preventing gear conflicts between vessels using on-demand/ropeless fishing gear and vessels using mobile gear. To end the morning, the Council will receive a presentation and provide comments on the Draft NOAA Fisheries National Seafood Strategy.

After the lunch break, the Council will receive a presentation on a Northeast Fisheries Science Center survey to assess current social/economic conditions of commercial fishing crews, including hired captains. The survey is a follow-up to NEFSC's 2018-19 study to determine demographic, well-being, and work condition changes over time. The Enforcement Committee report will be up next. The Council will hear enforcement feedback on a number of issues, including: (1) on-demand/ropeless fishing gear and the Gear Conflict Working Group; (2) the Council's Atlantic Salmon Aquaculture Framework; (3) ongoing work to reduce gillnet/protected resources interactions; (4) NOAA Office of Law Enforcement priorities; and (5) Council enforcement-related work priorities for 2023. After that, the Scallop Committee will provide an update on scallop work priorities for 2023, which include changes to the Scallop Research Set-Aside Program. Another important scallop-related item will be covered under the next agenda item, the Habitat Committee report. The first item of the habitat report will focus on the Northern Edge of Georges Bank and: (1) consider both Habitat Committee and Scallop Committee input, (2) discuss and potentially approve preliminary goals and objectives for possible management action, and (3) consider initiating action to revise the habitat management area (HMA) on the Northern Edge of Georges Bank to authorize scallop fishery access to the area. The habitat report also will include Council final action on a framework adjustment to the Atlantic Salmon Fishery Management Plan (FMP) to facilitate offshore Atlantic salmon aquaculture, followed by an update on offshore energy issues and other habitat-related work. The Council then will adjourn for the day.

Wednesday, April 19, 2023

The Council will begin the second day of its meeting with the Groundfish Committee report, which will cover multiple items. First, the Council will receive a progress report on the Groundfish Plan Development Team's work to develop performance metrics and indicators for the review process to evaluate the new groundfish monitoring system under Amendment 23 to the Northeast Multispecies Fishery Management Plan. The Council also will hear the Scientific and Statistical Committee's feedback on the metrics and indicators. The groundfish report will cover four other items: (1) an update on the facilitated process to develop new acceptable biological catch (ABC) control rules for groundfish; (2) an update on the Atlantic cod management transition plan should the Council go from managing two Atlantic cod stocks to four or five; (3) an update on addressing Canadian Atlantic halibut catch swings in the U.S. management process; and (4) a Council discussion on Gulf of Maine haddock. The Skate Committee report will follow, covering an update on work under 2023 skate priorities.

After the lunch break, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. The Ecosystem-Based Fishery Management (EBFM) Committee report will be up next to cover two items: (1) a progress report on the prototype Management Strategy Evaluation (pMSE) planning meetings for EBFM and the Georges Bank example Fishery Ecosystem Plan (eFEP); and (2) committee advice on conducting deep-dive public information workshops on EBFM. The Council then will receive a presentation from the Northeast Fisheries Science Center on its State of the Ecosystem 2023 report for New England. The SSC will provide feedback on the EBFM pMSE strategy and the State of the Ecosystem 2023 report. The Council will close out the day with a congressional update on legislative activities.

Thursday, April 20, 2023

The Council will lead off the third day of its meeting with the Atlantic Herring Committee report, which will cover: (1) an update on coordinated work with the Atlantic States Marine Fisheries Commission and Mid-Atlantic Council on river herring and shad, followed by a Herring Plan Development Team analysis of recent low river herring/shad estimates in the Atlantic herring fishery; and (2) an update on action to revisit the inshore midwater trawl closure that was part of Amendment 8 to the Atlantic Herring Fishery Management Plan but was vacated by court order. The Council then will receive a presentation on the Marine Resource Education Program, including an overview of the science and management components of this program.

After the lunch break, the Council will receive an informational overview on uncertainty in stock projections with two examples from recent framework actions. This item will be followed by a discussion of and decision on terms of reference for revising the Council's Risk Policy. The Council will provide guidance to its Risk Policy Working Group. Finally, the Council will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Authority: 16 U.S.C. 1801 et seq.

Dated: March 24, 2023.
Rey Israel Marquez,
Acting Deputy Director, Office of Sustainable Fisheries, National Marine Fisheries Service.

[FR Doc. 2023-06514 Filed 3-28-23; 8:45 am]

BILLING CODE 3510-22-P